GENERAL SERVICES ADMINISTRATION

[Notice-PBS-2022-02; Docket No. 2022-0002; Sequence No. 11]

Federal Management Regulation; Designation of a Federal Building

AGENCY: Public Buildings Service (PBS), General Services Administration.

ACTION: Notice of a bulletin.

SUMMARY: The attached bulletin announces the redesignation of a federal building.

DATES: This bulletin expires January 5, 2023. The building designation remains in effect until canceled or superseded by another bulletin.

FOR FURTHER INFORMATION CONTACT: General Services Administration, PBS, Office of Portfolio Management, Attn: Chandra Kelley, 77 Forsyth Street SW, Atlanta, GA 30303, at 404-562-2763, or by email at chandra.kelley@gsa.gov.

SUPPLEMENTARY INFORMATION: This bulletin announces the designation of a federal building. Public Law 117-103, dated March 15, 2022, designated the Federal Building located at 2005 University Boulevard in Tuscaloosa, Alabama, as the “Richard Shelby Federal Building and Courthouse”.

Robin Carnahan,
Administrator of General Services.

[FR Doc. 2022-14238 Filed 7-1-22; 8:45 am]

BILLING CODE 6820-Y1-P